OFFICE OF THE UNITED STATES TRADE REPRESENTATIVE

Notice of Meeting of the Industry Sector Advisory Committee on Small and Minority Business (ISAC-14)

AGENCY: Office of the United States Trade Representative.

ACTION: Notice of a partially opened meeting.

SUMMARY: The Industry Sector Advisory Committee on Small and Minority Business (ISAC-14) will hold a meeting on March 14, 2003, from 9 a.m. to 3:30 p.m. The meeting will be closed to the public from 9 a.m. to 1:30 p.m. and opened to the public from 1:30 p.m. to 3:30 p.m.

DATES: The meeting is scheduled for March 14, 2003, unless otherwise notified.

ADDRESSES: The meeting will be held at the Charleston Place Hotel, 205 Meeting Street, Charleston, SC.

FOR FURTHER INFORMATION CONTACT: Tamara Underwood, DFO for ISAC-14 at (202) 482-4792, Department of Commerce, 14th Street and Constitution Avenue, NW., Washington, DC 20230 or Christina Sevilla, Director for Intergovernmental Affairs, on (202) 395-6120.

SUPPLEMENTARY INFORMATION: During the opened portion of the meeting the following agenda item will be discussed.

• Updates on the Free Trade Area of the Americas (FTAA) and the United States' Free Trade Agreements (FTAs) with Morocco, Australia, and the Central African Customs Union.

• Overview of Customs' Recent Projects and Programs.

• Overview of the Trade Advisory Committee System's Functions, Roles, and Responsibilities (for purposes of outreach and recruitment of new members to the ISACs).

Christopher A. Padilla,
Assistant U.S. Trade Representative for Intergovernmental Affairs and Public Liaison.

[FR Doc. 03-4882 Filed 2-28-03; 8:45 am]

BILLING CODE 3190-01-M